DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The list of Specially Designated Nationals and Blocked Persons (SDN List) and additional information concerning OFAC sanctions programs are available on OFAC's website (http://www.treasury.gov/ofac).

Notice of OFAC Actions

On May 7, 2018, OFAC determined that the property and interests in property of the following persons are blocked under the relevant sanctions authority listed below.

Individuals

1. DEL NOGAL MARQUEZ, Walter Alexander, Miranda, Venezuela; Edificio Poli centro, Piso 4, Of. 3, Panama, Panama; DOB 02 Oct 1969; citizen Venezuela; Gender Male; Cedula No. 9965580 (Venezuela); Passport C1940147 (Venezuela) (individual) [SDNTK] (Linked To: DEL BROS OVERSEAS, S.A.; Linked To: DMI TRADING INC.; Linked To: FINANCIAL CORPORATION FINCORP, C.A.; Linked To: FINANCIAL CORPORATION (FINCORP INTERNATIONAL), S.A.; Linked To: VIC DEL INC. (OFF SHORE)). Designated pursuant to section 805(b)(2) of the Kingpin Act, 21 U.S.C. 1904(b)(2), for materially assisting in, or providing financial or technological support for or to, or providing goods or services in support of, the international narcotics trafficking activities of MARTIN OLIVARES.

2. MARTIN OLIVARES, Pedro Luis, Av. Francisco de Miranda, Edif Saule, Piso 7, APTO 72., Chacao, Miranda, Venezuela; DOB 18 Apr 1967; POB Caracas, Venezuela; nationality Venezuela; citizen Venezuela; Gender Male; Cedula No. 6252562 (Venezuela); Passport 057530115 (Venezuela) (individual) [SDNTK] (Linked To: D2 IMAGINEERING, C.A.; Linked To: GRUPO CONTROL 2004, C.A.; Linked To: GRUPO CONTROL SYSTEM 2004, C.A.; Linked To: INMUEBLES Y DESARROLLOS WEST POINT, C.A.; Linked To: INVERSIONES PMA 243, C.A.; Linked To: MATSUNICHI OIL TRAEADEZ 12, C.A.; Linked To: MATSUNICHI OIL TRADER, C.A.; Linked To: PLM CONSORCIO, C.A.; Linked To: PLM CONSULTORES, C.A.; Linked To: P.L.M. GROUP SOCIEDAD DE CORRETAJE DE VALORES, C.A.; Linked To: PLM SECURITY CONTROL GROUP, C.A.; Linked To: P L M SOCIEDAD DE CORRETAJE, C.A.; Linked To: PLM TRANSPORTE, C.A.; Linked To: TECHNO TRANSPORTE ML, C.A.). Identified pursuant to section 805(b)(1) of the Kingpin Act, 21 U.S.C. 1904(b)(1), as a significant foreign narcotics trafficker.

3. RODRIGUEZ ESPINOZA, Mario Antonio (a.k.a. RODRIGUEZ EZPINOZA, Mario Antonio), Miranda, Venezuela; DOB 16 Feb 1966; citizen Venezuela; Gender Male; Cedula No. 6859414 (Venezuela) (individual) [SDNTK] (Linked To: INVERSIONES MALAMAR R, C.A.). Designated pursuant to section 805(b)(2) of the Kingpin Act, 21 U.S.C. 1904(b)(2), for materially assisting in, or providing financial or technological support for or to, or providing goods or services in support of, the international narcotics trafficking activities of MARTIN OLIVARES.

Entities

1. 1. D2 IMAGINEERING, C.A., Av. Francisco de Miranda, Edif. Saule, piso 7, Ofic. 72, Chacao, Caracas, Venezuela; RIF # J-29766946-9 (Venezuela) [SDNTK]. Designated pursuant to section 805(b)(3) of the Kingpin Act, 21 U.S.C. 1904(b)(3), for being owned, controlled, or directed by, or acting for or on behalf of, MARTIN OLIVARES.

2. DEL BROS OVERSEAS, S.A., Calle 73, Edificio Mirador, Piso 8, Of. A, San Francisco, Panama, Panama; RUC # 1182190-1-578348 (Panama); Folio Mercantil No. 578348 (Panama) [SDNTK]. Designated pursuant to section 805(b)(3) of the Kingpin Act, 21 U.S.C. 1904(b)(3), for being owned, controlled, or directed by, or acting for or on behalf of, DEL NOGAL MARQUEZ.

3. DMI TRADING INC., Av. Cuba y Calle 30 Edificio Policentro, Piso 4, Of. 3, Panama, Panama; RUC # 1794418-1-704269 (Panama); Folio Mercantil No. 704269 (Panama) [SDNTK]. Designated pursuant to section 805(b)(3) of the Kingpin Act, 21 U.S.C. 1904(b)(3), for being owned, controlled, or directed by, or acting for or on behalf of, DEL NOGAL MARQUEZ.

4. FINANCIAL CORPORATION (FINCORP INTERNATIONAL), S.A., Panama City, Panama; RUC #1182193-1-578349 (Panama); Folio Mercantil No. 578349 (Panama) [SDNTK]. Designated pursuant to section 805(b)(3) of the Kingpin Act, 21 U.S.C. 1904(b)(3), for being owned, controlled, or directed by, or acting for or on behalf of, DEL NOGAL MARQUEZ.

5. FINANCIAL CORPORATION FINCORP, C.A., Cto. Ciudad Comercial Tamanaco, Torre A, piso 3, Ofic. 308, Urb. Chuao, Caracas, Venezuela; RIF #J-31118020-6 (Venezuela) [SDNTK]. Designated pursuant to section 805(b)(3) of the Kingpin Act, 21 U.S.C. 1904(b)(3), for being owned, controlled, or directed by, or acting for or on behalf of, DEL NOGAL MARQUEZ.

6. GRUPO CONTROL 2004, C.A., Av. Fco. Solano, con Calle Acueducto, Edif. Torre Banvenez, piso 9, Ofic. C y D, Sabana Grande, Caracas, Venezuela; RIF #J-31153379-6 (Venezuela) [SDNTK]. Designated pursuant to section 805(b)(3) of the Kingpin Act, 21 U.S.C. 1904(b)(3), for being owned, controlled, or directed by, or acting for or on behalf of, MARTIN OLIVARES.

7. GRUPO CONTROL SYSTEM 2004, C.A., Av. Francisco de Miranda, Centro Lido, Torre A, piso 10, Of. 10-02, Urb. El Rosal, Caracas, Venezuela; RIF #J-29469218-4 (Venezuela) [SDNTK]. Designated pursuant to section 805(b)(3) of the Kingpin Act, 21 U.S.C. 1904(b)(3), for being owned, controlled, or directed by, or acting for or on behalf of, MARTIN OLIVARES.

8. INMUEBLES Y DESARROLLOS WEST POINT, C.A. (f.k.a. PLM INMOBILIARIA C.A.), Av. Principal de Los Ruices, Edif. El Doral, piso 6, Ofic. 62, Urb. Los Ruices, Caracas, Venezuela; RIF #J-31242224-6 (Venezuela) [SDNTK]. Designated pursuant to section 805(b)(3) of the Kingpin Act, 21 U.S.C. 1904(b)(3), for being owned, controlled, or directed by, or acting for or on behalf of, MARTIN OLIVARES.

9. INVERSIONES MALAMAR R, C.A., Av. Intercomunal El Valle, Resid. Radio Caracas, Edif. Canaima, piso 9, Apto. 905, El Valle, Caracas, Venezuela; RIF #J-31267002-9 (Venezuela) [SDNTK]. Designated pursuant to section 805(b)(3) of the Kingpin Act, 21 U.S.C. 1904(b)(3), for being owned, controlled, or directed by, or acting for or on behalf of, RODRIGUEZ ESPINOZA.

10. INVERSIONES PMA 243, C.A., Calle Argentina, entre 3a y 4a Avenida, Casa No 86, Catia, Caracas, Venezuela; RIF #J-30835786-3 (Venezuela) [SDNTK]. Designated pursuant to section 805(b)(3) of the Kingpin Act, 21 U.S.C. 1904(b)(3), for being owned, controlled, or directed by, or acting for or on behalf of, MARTIN OLIVARES.

11. MATSUNICHI OIL TRADER, C.A., Calle La Guairita con Calle Amazonas, Cto. Profesional Eurobuilding, piso 4, Ofic. 48, Urb. Chuao, Caracas, Venezuela; RIF #J-29812490-3 (Venezuela) [SDNTK]. Designated pursuant to section 805(b)(3) of the Kingpin Act, 21 U.S.C. 1904(b)(3), for being owned, controlled, or directed by, or acting for or on behalf of, MARTIN OLIVARES.

12. MATSUNICHI OIL TRAEADEZ 12, C.A., Calle La Guairita con Calle Amazonas, Cto. Profesional Eurobuilding, piso 4, Ofic. BB, Urb. Chuao, Caracas, Venezuela; RIF #J-29732037-7 (Venezuela) [SDNTK]. Designated pursuant to section 805(b)(3) of the Kingpin Act, 21 U.S.C. 1904(b)(3), for being owned, controlled, or directed by, or acting for or on behalf of, MARTIN OLIVARES.

13. P L M SOCIEDAD DE CORRETAJE, C.A., Caracas, Venezuela; RIF #J-30877708-0 (Venezuela) [SDNTK]. Designated pursuant to section 805(b)(3) of the Kingpin Act, 21 U.S.C. 1904(b)(3), for being owned, controlled, or directed by, or acting for or on behalf of, MARTIN OLIVARES.

14. P.L.M. GROUP SOCIEDAD DE CORRETAJE DE VALORES, C.A., Caracas, Venezuela; RIF #J-31254454-6 (Venezuela) [SDNTK]. Designated pursuant to section 805(b)(3) of the Kingpin Act, 21 U.S.C. 1904(b)(3), for being owned, controlled, or directed by, or acting for or on behalf of, MARTIN OLIVARES.

15. PLM CONSORCIO, C.A., Av. Francisco de Miranda, Edif. Saule, piso 7, Ofic. 72, Chacao, Caracas, Venezuela; RIF #J-31241977-6 (Venezuela) [SDNTK]. Designated pursuant to section 805(b)(3) of the Kingpin Act, 21 U.S.C. 1904(b)(3), for being owned, controlled, or directed by, or acting for or on behalf of, MARTIN OLIVARES.

16. PLM CONSULTORES, C.A., Av. Francisco de Miranda, Centro Lido, Torre B, piso 10, Ofic. 102-B, El Rosal, Caracas, Venezuela; RIF #J-31241965-2 (Venezuela) [SDNTK]. Designated pursuant to section 805(b)(3) of the Kingpin Act, 21 U.S.C. 1904(b)(3), for being owned, controlled, or directed by, or acting for or on behalf of, MARTIN OLIVARES.

17. PLM SECURITY CONTROL GROUP, C.A., Caracas, Venezuela; RIF #J-31403007-8 (Venezuela) [SDNTK]. Designated pursuant to section 805(b)(3) of the Kingpin Act, 21 U.S.C. 1904(b)(3), for being owned, controlled, or directed by, or acting for or on behalf of, MARTIN OLIVARES.

18. PLM TRANSPORTE, C.A., Av. Caurimare, Edif. San Antonio de Padua, piso 2, Apto. 4, Urb. Colinas de Bello Monte, Caracas, Venezuela; RIF #J-31242244-0 (Venezuela) [SDNTK]. Designated pursuant to section 805(b)(3) of the Kingpin Act, 21 U.S.C. 1904(b)(3), for being owned, controlled, or directed by, or acting for or on behalf of, MARTIN OLIVARES.

19. TECHNO TRANSPORTE ML, C.A., Av. Humboldt, Quinta San Jose, Local 23, Urb. Bello Monte, Caracas, Venezuela; RIF #J-29732032-6 (Venezuela) [SDNTK]. Designated pursuant to section 805(b)(3) of the Kingpin Act, 21 U.S.C. 1904(b)(3), for being owned, controlled, or directed by, or acting for or on behalf of, MARTIN OLIVARES.

20. VIC DEL INC. (OFF SHORE), Aquilino de la Guardia, PH Plaza Banco General, Piso 20, Of. 20A, Panama, Panama; RUC #1794835-1-704338 (Panama); Folio Mercantil No. 704338 (Panama) [SDNTK]. Designated pursuant to section 805(b)(3) of the Kingpin Act, 21 U.S.C. 1904(b)(3), for being owned, controlled, or directed by, or acting for or on behalf of, DEL NOGAL MARQUEZ.

Dated: May 7, 2018.
Andrea M. Gacki,
Acting Director, Office of Foreign Assets Control.

[FR Doc. 2018-10142 Filed 5-11-18; 8:45 am]

BILLING CODE 4810-AL-P